DEPARTMENT OF TRANSPORTATION

Maritime Administration

Voluntary Intermodal Sealift Agreement (VISA)/Joint Planning Advisory Group (JPAG)

AGENCY: Maritime Administration, DOT.

ACTION: Synopsis of July 26 and 27, 2006 meeting with VISA participants.

FOR FURTHER INFORMATION CONTACT: Mr. Taylor E. Jones II, Director, Office of Sealift Support, (202) 366-2323.

SUPPLEMENTARY INFORMATION: The VISA program requires that a notice of the time, place, and nature of each JPAG meeting be published in the Federal Register. The full text of the VISA program, including these requirements, is published in 70 FR 55947-55955, dated September 23, 2005.

On July 26 and 27, 2006, the Maritime Administration (MARAD) and the U.S. Transportation Command (USTRANSCOM) co-hosted a meeting of the VISA JPAG at the Military Sealift Command in Washington, DC. Meeting attendance was by invitation only, due to the nature of the information discussed and the need for a government-issued security clearance. Of the 52 U.S.-flag carrier corporate participants enrolled in the VISA program, 17 companies participated in the JPAG meeting. In addition, representatives from MARAD and the Department of Defense (DOD) attended the meeting.

Margaret LeClaire, Deputy Director, Strategy, Plans, Policy & Programs, USTRANSCOM, and James Caponiti, Associate Administrator for National Security, MARAD, welcomed the participants. Ms. LeClaire noted that this JPAG was a table-top exercise to match industry capabilities to military requirements related to the findings of DOD's Mobility Capabilities Study (MCS). She asked industry participants to be creative and to collaborate as necessary to offer solutions. She noted that there were DOD representatives present to answer specific questions related to the exercise. Mr. Caponiti remarked that while some progress has been made in recent JPAG meetings regarding the findings of DOD's Mobility Capabilities Study, he expected that this exercise would provide the government with a better appreciation of industry capabilities. He requested that industry representatives itemize their concerns related to the exercise so that they might be addressed after the meeting.

VISA participants coordinated their efforts to ensure that commercial resources were utilized in an efficient and innovative manner. As a result of the exercise there was general agreement that there was more capability in the commercial industry than was assumed in the MCS to meet timelines and satisfy requirements. The participants noted that their responses were based on numerous assumptions. It was agreed that a closer examination of equipment, infrastructure and intermodal constraints was needed, and that factors such as market conditions and trade seasonality should be considered and evaluated before final conclusions could be reached.

The following VISA companies participated in the July 26 and 27, 2006 JPAG meeting: American President Lines, Ltd.; American Roll-On Roll-Off Carrier, LLC; American Shipping Group; APL Marine Services, Ltd.; APL Maritime Ltd; Central Gulf Lines, Inc.; CP Ships USA, LLC; Farrell Lines Incorporated; Fidelio Limited Partnership; Liberty Global Logistics, LLC; Liberty Shipping Group Limited Partnership; Maersk Line, Limited; Matson Navigation Company, Inc.; Patriot Shipping, LLC; Patriot Titan, LLC; Sealift Inc.; and Waterman Steamship Corporation.

(Authority: 49 CFR 1.66)

By Order of the Maritime Administrator.
Dated: August 22, 2006.
Joel C. Richard,
Secretary.

[FR Doc. E6-14260 Filed 8-25-06; 8:45 am]

BILLING CODE 4910-81-P